DEPARTMENT OF THE INTERIOR

Bureau of Land Management

43 CFR Part 3160

[17X.LLWO300000.L13100000.PP0000]

RIN 1004-AE37

Onshore Oil and Gas Operations; Federal and Indian Oil and Gas Leases; Onshore Oil and Gas Order Number 1, Approval of Operations

AGENCY: Bureau of Land Management, Interior.

ACTION: Final order; delay of effective and implementation dates.

SUMMARY: In accordance with a January 20, 2017, Memorandum for the Heads of Executive Departments and Agencies (memorandum) from the White House, the Bureau of Land Management (BLM) is delaying the effective date of a rule published on January 10, 2017.

DATES: The effective date of the rule that published on January 10, 2017, at 82 FR 2906, is delayed from February 9, 2017, to March 21, 2017. In addition, the implementation date is delayed from March 13, 2017 to April 20, 2017.

FOR FURTHER INFORMATION CONTACT: Steven Wells, Division Chief, Fluid Minerals Division, 202-912-7143 for information regarding the substance of the final Order or information about the BLM's Fluid Minerals Program. Persons who use a telecommunications device for the deaf (TDD) may call the Federal Relay Service at 1-800-877-8339 to contact the above individual during normal business hours. The Service is available 24 hours a day, 7 days a week to leave a message or question with the above individual. You will receive a reply during normal business hours.

SUPPLEMENTARY INFORMATION: On July 29, 2016, the BLM published for public review and comment a proposed rule to update the filing requirements of Onshore Oil and Gas Order Number 1 (Onshore Order 1), requiring the electronic filing (e-filing) of all Applications for Permit to Drill (APDs) and Notices of Staking (NOSs). The comment period closed on August 28, 2016. Five comments were received; three were substantive, resulting in changes to the final rule; two were non-substantive and considered outside the scope of the proposed rule.

On January 10, 2017, the BLM published a notice at 82 FR 2906 of the final Order to revise Onshore Order 1 to require e-filing of all APDs and NOSs. Per that notice, the final Order is currently scheduled to take effect on February 9, 2017.

Previously, Onshore Order 1 stated that an “operator must file an APD or any other required documents in the BLM Field Office having jurisdiction over the lands described in the application,” but allowed for e-filing of such documents as an alternative. The revision to Onshore Order 1 makes e-filing the required method of submission, subject to limited exceptions. The BLM made this change to improve the efficiency and transparency of the APD and NOS processes.

On January 20, 2017, the White House issued a memorandum instructing Federal agencies to temporarily postpone the effective date of certain regulations for 60 days after January 20, 2017, to ensure the President's appointees or designees have the opportunity to review any new or pending regulations. Section 3 of the memorandum states, “With respect to regulations that have been published in the OFR [Office of the Federal Register] but have not taken effect, as permitted by applicable law, temporarily postpone their effective date for 60 days from the date of this memorandum, . . . for the purpose of reviewing questions of fact, law, and policy they raise.” The memorandum goes on to state in Section 3(a) that following the delay in effective date, “for those regulations that raise no substantial questions of law or policy, no further action needs to be taken.” The BLM is, therefore, delaying the effective date of the rule by 60 days, from the date of the memorandum, to March 21, 2017.

Sections III.A, III.C, and III.E of the final Order include an implementation date for certain provisions to begin 30 days after the effective date of the Order. The implementation date of these provisions is now April 20, 2017.

To the extent that 5 U.S.C. 553 applies to this action, it is exempt from notice and comment because it constitutes a rule of procedure under 5 U.S.C. 553(b)(A). Alternatively, our implementation of this action without opportunity for public comment, effective immediately upon publication in the Federal Register, is based on the good cause exceptions in 5 U.S.C. 553(b)(B) and 553(d)(3). Pursuant to 5 U.S.C. 553(b)(B), we have determined that good cause exists to forego the requirement to provide prior notice and an opportunity for public comment thereon for this rule as such procedures would be impracticable, unnecessary and contrary to the public interest. We are temporarily postponing for 60 days the effective date of this regulation pursuant to the previously-noted memorandum of the Chief of Staff. As a result, seeking public comment on this delay is unnecessary and contrary to the public interest. For these same reasons we find good cause to waive the 30-day delay in effective date provided for in 5 U.S.C. 553(d).

Authority: 43 CFR part 3160.

Richard T. Cardinale,
Acting Assistant Secretary, Land and Minerals Management.

For reasons set out in the preamble, the Bureau of Land Management amends the appendix following the regulatory text of the final rule published in the Federal Register at 72 FR 10308 at 10328 (March 7, 2007), corrected on March 9, 2007 (72 FR 10608), effective March 7, 2007, and revised on January 10, 2017 (82 FR 2906), as follows:

Note: This appendix does not appear in the BLM regulations in 43 CFR part 3160.

Appendix—Text of Oil and Gas Onshore Order

Amend Onshore Oil and Gas Order Number 1 sections III.A, III.C, and III.E by replacing “March 13, 2017,” with “April 20, 2017,” at each place it occurs.

[FR Doc. 2017-02711 Filed 2-8-17; 8:45 am]

BILLING CODE 4310-84-P